DEPARTMENT OF THE INTERIOR

Bureau of Land Management

[UT-912-02-1120-PG-24-1A]

Call for Nominations on Utah Resource Advisory Council

AGENCY: Bureau of Land Management, Department of Interior.

ACTION: Call for Nominations on Utah Resource Advisory Council (RAC).

SUMMARY: The purpose of this notice is to solicit public nominations for two (2) vacancies which have occurred on the Utah Resource Advisory Council (RAC). Nominations are being accepted for positions which fill Category 1 (Holders of Federal grazing permits, representatives of energy and mineral development, timber industry, transportation or rights-of-way, off-highway vehicle use, and commercial recreation); and, Category 2 (Representatives of nationally or regionally recognized environmental organizations, archaeological and historic interests, dispersed recreation, and wild horse and burro groups).

Utah residents are being sought to fill these vacancies on the 15-person Council which have occurred due to the resignations of two of its members. The individuals selected will serve out the remaining balances of the 3-year terms that will continue through September 2002 (Category 1) and September 2003 (Category 2), respectively. These candidates would also be eligible for reappointment of additional 3-year terms on the Council.

Nominees will be evaluated based on their experience or knowledge of the geographic area; education, training and experience; and, their experience in working with disparate groups to achieve collaborative solutions. All nominations must be accompanied by letters of reference from represented interests or organizations, a completed background information nomination form, as well as any other information that speaks to the nominee's qualifications. The Bureau of Land Management will forward the nominations to the Secretary of the Interior, who will make the appointments to the Council.

Resource Advisory Councils were established and authorized in 1995 by the Secretary of the Interior to provide advice and recommendations to the Bureau of Land Management on management of public lands.

FOR FURTHER INFORMATION CONTACT: Anyone interested in requesting a nomination form should inquire at the Bureau of Land Management, Utah State Office, Attention: Sherry Foot, Special Programs Coordinator, 324 South State Street, Salt Lake City, 84111; phone (801) 539-4195. All nominations must be received no later than close of business February 28, 2002.

Dated: January 8, 2002.
Sally Wisely,
State Director.

[FR Doc. 02-1940 Filed 1-25-02; 8:45 am]

BILLING CODE 4310-$$-P